DEPARTMENT OF AGRICULTURE

Forest Service

Los Padres National Forest, California; Strategic Community Fuelbreak Improvement Project

AGENCY: Forest Service, USDA.

ACTION: Notice of intent to prepare an environmental impact statement.

SUMMARY: The Forest Service will prepare an environmental impact statement (EIS) to evaluate and disclose the predicted effects of the proposed Strategic Community Fuelbreak Improvement Project, designed to enhance community protection from wildfire within the wildland urban interface threat zone. Historically used strategic firelines ¹ would be improved and maintained as fuelbreaks.² The project treatments would cover approximately 24 miles of fuelbreaks and a 64-acre treated unit for a total of 544 acres. Treatments would include the use of machine and/or hand thinning, machine and/or hand piling and pile burning or chipping; and mastication. The project is located in Monterey County, California, on the northern portion of the Monterey Ranger District of the Los Padres National Forest. The project's legal description is: portions of Township (T) 18South (S), Range (R) 2East (E), 3E, 4E; T.19S, R.2E, 4E; T.20S, R.2E, 3E; Mount Diablo Meridian.

¹ Fireline is a loose term for any cleared strip used in control of a fire; the portion of a control line from which flammable materials have been removed by scraping or digging down to the mineral soil.

² Fuelbreaks are strategically located wide blocks, or strips, on which a heavy fuel loading has been changed to one of lower fuel loading.

DATES: Comments concerning the scope of the analysis will be received for 45 days from date of publication in the Federal Register. The draft environmental impact statement is expected in November 2013 and the final environmental impact statement is expected in April 2014.

ADDRESSES: Send written comments to Los Padres National Forest, Monterey Ranger District, 406 South Mildred, King City, CA. 93930, attention: Jeff Kwasny. Comments may also be sent via facsimile to 831-385-0628, or via email to: comments-pacificsouthwest-los-padres-monterey@fs.fed.us.

FOR FURTHER INFORMATION CONTACT: Jeff Kwasny, Project Team Leader, at 831-667-1126.

Individuals who use telecommunication devices for the deaf (TDD) may call the Federal Information Relay Service (FIRS) at 1-800-877-8339 between 8 a.m. and 8 p.m., Eastern Time, Monday through Friday.

SUPPLEMENTARY INFORMATION:

Collaboration

The Monterey Ranger District initiated an informal collaborative group called Firescape Monterey to exchange information and work together towards agreement on conservation goals. Firescape Monterey is comprised of community and stakeholder partners who promote a multi-jurisdictional approach for protecting property affected by wildfire and promoting a healthy resilient ecosystems through collaborative stewardship. While facilitated and guided by the Fire Learning Network, and a focus on ecological restoration, participants in Firescape Monterey have identified five key landscape values: Fire Adapted Human Communities, Natural and Wilderness Qualities, Biodiversity, Cultural Resources, and Watersheds.

Firescape Monterey will continue to work towards collaborative and financially supported efforts among all land managers to accelerate the pace of landscape restoration, and the Los Padres National Forest will focus its current efforts on this strategic commmunity fuelbreak project.

Purpose and Need for Action

The purpose and need for this project is to: increase wildland fire suppression efficiency when in proximity to communities and related infrastructure, reduce wildfire risk to life and property, reduce suppression costs, and reduce adverse fire suppression impacts on the landscape.

The number of homes built within the wildland-urban interface (WUI) on the periphery of the Monterey Ranger District (MRD) has grown significantly, increasing the extent and complexity of WUIs. In 2008, 27 homes were lost to wildfire within the WUI of the MRD. Conditions for extreme fire behavior can exist during any season on the Los Padres National Forest. The complex interaction between weather, topography, and fuels drive fire behavior. Rapid rates of spread and fireline intensities may exceed the capability of ground and aerial fire resources in any fuel type when the elements of slope, wind and solar radiation align on a fire. Historically, when a wildfire begins on the MRD within or outside of wilderness, fire suppression efforts focus on a series of geographic ridges that lie strategically between National Forest and communities at risk. The size, location, and direction of a wildfire dictates the miles of bulldozer constructed firelines needed on strategic ridges.

Currently, conditions of the soil biota and plant communities on these historic firelines are in varying stages of succession due to repeated bulldozer activity during fire suppression activities. By proactively designing and establishing Strategic Community Fuelbreaks, we can reduce the need for mechanized equipment during subsequent wildfires and allow for ecological restoration. Native vegetation, such as perennial grasses and forbs released as a result of treatments, with low fuel volume or reduced flammability will be retained. Due to their strategic location and alignment, it is likely that when the next wildfire threatens the adjacent at-risk communities mechanical equipment would be used to re-open these lines for fire suppression activities.

Proposed Action

The proposed action is to re-establish and maintain 24.1 miles of historically used fuelbreaks—all of which originated as firelines—within the wildland urban interface threat zones on National Forest System lands; approximately 7.5 miles within wilderness and 16.6 miles outside of wilderness. Fuelbreak treatments would be as follows:

Non-Wilderness

Fuelbreaks would be constructed and maintained every 3-5 years with a combination of hand thinning with chainsaws, hand and machine piling, pile burning and mastication.

Wilderness

In accordance with the Wilderness Act, enabling legislation, and Forest Service Policy, fuelbreaks would be constructed manually using chainsaws, hand piling and pile burning and then maintained every 3-5 years with traditional tools through a combination of hand thinning, hand piling and pile burning. A monitoring and adaptive management program will be developed to evaluate the rate of vegetative regrowth on the treated fuelbreaks to determine if available workforce is sufficient to maintain fuelbreak integrity with traditional tools or whether additional administrative actions, such as use of chainsaws, will be needed to assist in maintenance.

Strategic Community Fuelbreak locations and dimensions ³ are as follows:

³ Fuelbreak widths are maximum values. The actual widths may be limited by factors such as width of the ridge and/or proximity to the wilderness boundary.

(1a) Palo Colorado Vicinity—Non-Wilderness

Establish a maximum 150 foot wide fuelbreak on the historic fireline adjacent to the Skinner Ridge Trail (FDT 1E04) between Bottchers Gap and Skinner Ridge, a distance of 1.3 miles.

Establish a maximum 150 foot wide fuelbreak on the historic fireline along Skinner Ridge between the wilderness boundary in Section 18 (near Turner Creek) and Pico Blanco Boy Scout Camp, a distance of 2.8 miles.

Establish a fuelbreak that overlaps the existing Mescal Ridge Road, covering 25 feet north of the road edge to 75 feet south of the adjacent ridge center. The fuelbreak would be a maximum of approximately 300 feet wide by 0.6 miles long.

(1b) Palo Colorado Vicinity—Wilderness

Establish a maximum 150 foot wide fuelbreak on the historic fireline between the wilderness boundary in Section 18 (just south of the Turner Creek trailhead) and Devils Peak, a distance of one mile.

(2a) Palo Colorado to Big Sur Vicinity—Non-Wilderness

Establish a maximum 150 foot wide fuelbreak on the historic fireline between the National Forest boundary at Post Summit, across Cabezo Prieto ridge, and where the Mt.Manuel Trail (FDT 2E06) crosses the wilderness boundary in Section 20, a distance of 2.8 miles.

(2b) Palo Colorado to Big Sur Vicinity—Wilderness

Establish a maximum 150 foot wide fuelbreak on the historic fireline between Post Summit and the Little Sur River, a distance of 1.8 miles.

Establish a maximum 150 foot wide fuelbreak on the historic fireline from where the Mt. Manuel Trail (FDT 2E06) crosses the wilderness boundary in Section 20 to the Big Sur Wild River boundary, a distance of 0.8 miles.

(3) Big Sur Vicinity—Non-Wilderness

Establish a fuelbreak along the historic fireline adjacent to and/or encompassing the North Coast Ridge Road (FDR 20S05) between the Terrace Creek Trailhead (FDT 3E220) and Anderson Peak on National Forest System lands, a distance of 6.8 miles. The maximum width between the Terrace Creek Trailhead and Cold Springs will be 150 feet; maximum width between Cold Springs and the Tanbark Trail will be 300 feet; maximum width between the Tanbark Trail and Anderson Peak will be 150 feet.

Establish a 150 foot wide fuelbreak on Partington Ridge adjacent to and/or encompassing the Deangula Trail (FDT 2E07) between the North Coast Ridge Road (FDR 20S05) and the National Forest boundary, a distance of 0.8 miles.

Establish a fuelbreak encompassing the Tan Bark Trail between the North Coast Ridge Road (FDR 20S05) and the Forest Boundary, a distance of 0.8 miles. Commencing at the North Coast Ridge Road and traveling west towards the National Forest boundary, the first approximate 600 feet in length will be a maximum of 300 feet wide. The remaining length to the Forest boundary will be a maximum of 150 feet wide.

(4a) Cachagua and Jamesburg Vicinity—Non-Wilderness

Establish an anchor point through the use of prescribed fire and/or hand thinning with chainsaws, hand and machine piling, pile burning, and mastication around the Chews Ridge Lookout Tower and the Monterey Institute for Research and Astronomy Observing Station. Acreage is approximately 64 acres.

Establish a 150 foot wide fuelbreak on the historic fireline along Chews Ridge between the Chews Ridge Lookout Tower and north 0.7 miles to the wilderness boundary.

(4b) Cachagua and Jamesburg Vicinity—Wilderness

Establish a 150 foot wide fuelbreak on the historic fireline along Hennicksons/Chews Ridge on National Forest System lands between the National Forest boundary above Los Padres Dam and the wilderness boundary near Tassajara Road, a distance of 3.9 miles.

Responsible Official

Peggy Hernandez, Forest Supervisor, Los Padres National Forest

Nature of Decision To Be Made

The Forest Supervisor will decide whether to implement the proposed action, take an alternative action that meets the purpose and need, or take no action.

Preliminary Issues

At issue is the effects on wilderness character for the proposed 7.5 miles of maintained fuelbreak within the Ventana wilderness. Wilderness character is not intended to be all-inclusive nor a predetermined set of potential impacts. Additional issues may occur as a result of the scoping process.

Scoping Process

This notice of intent initiates the scoping process, which guides the development of the environmental impact statement. It is important that reviewers provide their comments at such times and in such manner that they are useful to the agency's preparation of the environmental impact statement. Therefore, comments should be provided prior to the close of the comment period and should clearly articulate the reviewer's support, concerns and contentions.

Include the following information with your comments: your name, mailing address, email (optional), and telephone number; the project name: Strategic Community Fuelbreak Improvement Project; and site-specific comments about the proposed action, along with supporting information you believe will help identify issues, develop alternatives, or predict environmental effects of this proposal. The most useful comments provide new information or describe unwanted environmental effects potentially caused by the proposed action. If you reference scientific literature in your comments, you must provide a copy of the entire reference you have cited and include rationale as to how you feel it is pertinent to the Strategic Community Fuelbreak Improvement Project.

Comments received in response to this solicitation, including names and addresses of those who comment, will be part of the public record for this proposed action. Comments submitted anonymously, however, will be accepted and considered.

Dated: December 18, 2012.
Peggy Hernandez,
Forest Supervisor.

[FR Doc. 2012-31274 Filed 12-27-12; 8:45 am]

BILLING CODE 3410-11-P